DEPARTMENT OF COMMERCE

International Trade Administration

[C-570-968]

Aluminum Extrusion From the People's Republic of China: Preliminary Results of Countervailing Duty Administrative Review; 2013, Final Results of Countervailing Duty Administrative Review; 2013, and Amended Final Results of Countervailing Duty Administrative Review; 2013; Correction

AGENCY: Enforcement and Compliance, International Trade Administration, Department of Commerce.

ACTION: Notice; correction.

SUMMARY: The U.S. Department of Commerce (Commerce) published a notice in the Federal Register of June 9, 2015, in which Commerce announced the preliminary results of the 2013 administrative review of the countervailing duty (CVD) order on aluminum extrusions from the People's Republic of China (China). Commerce also published a notice in the Federal Register of December 14, 2015, in which Commerce announced the final results of the 2013 administrative review of the CVD order on aluminum extrusions from China. Lastly, Commerce published notice in the Federal Register of March 22, 2016, in which Commerce amended its final results of the 2013 administrative review of the CVD order on aluminum extrusions from China. This notice addresses the applicable cash deposit and assessment rates for Guangzhou Mingcan Die-Casting Hardware Products Co., Ltd. (Guangzhou Mingcan), which was inadvertently omitted from the notices for this administrative review.

FOR FURTHER INFORMATION CONTACT: Amber Hodak, AD/CVD Operations, Office VI, Enforcement and Compliance, International Trade Administration, U.S. Department of Commerce, 1401 Constitution Avenue NW, Washington, DC 20230; telephone: (202) 482-8034.

SUPPLEMENTARY INFORMATION:

Background

On June 9, 2015, Commerce published in the Federal Register the Preliminary Results on the 2013 administrative review of the CVD Order ¹ on aluminum extrusions from China.² On December 14, 2015, Commerce published in the Federal Register the Final Results on the 2013 administative review of the CVD Order on aluminum extrusions from China.³ On March 22, 2016, Commerce published in the Federal Register the Amended Final Results on the 2013 administrative review of the CVD Order on aluminum extrusions from China.⁴ In these three Federal Register notices, Commerce inadvertently omitted the company, Guangzhou Mingcan, from the cash deposit rate table and did not assign the company a subsidy rate. Guangzhou Mingcan was a company for which an administrative review was requested and initiated, and that Commerce did not select for individual examination. The administrative review of this company was not rescinded.⁵

¹ See Aluminum Extrusions from the People's Republic of China: Countervailing Duty Order, 76 FR 30653 (May 26, 2011) (Order); see also Aluminum Extrusions from the People's Republic of China: Antidumping Duty Order, 76 FR 30650 (May 26, 2011).

² See Aluminum Extrusions from the People's Republic of China: Preliminary Results, Preliminary Intent To Rescind, in Part, and Partial Rescission of Countervailing Duty Administrative Review; 2013, 80 FR 32528 (June 9, 2015) (Preliminary Results).

³ See Aluminum Extrusions from the People's Republic of China: Final Results, and Partial Rescission of Countervailing Duty Administrative Review; 2013, 80 FR 77325 (December 14, 2015) (Final Results).

⁴ See Aluminum Extrusions from the People's Republic of China: Amended Final Results of Countervailing Duty Administrative Review; 2013, 81 FR 15238 (March 22, 2016) (Amended Final Results).

⁵ See Initiation of Antidumping and Countervailing Duty Adminsitrative Reviews, 79 FR 36462, 36467 (June 27, 2014); see also Preliminary Results, 80 FR at 32530-32531.

Correction

In the Federal Register of June 9, 2015, in FR Doc 2015-14076, on pages 32530-32531 in the first, second, and third columns, correct the cash deposit rate table as follows: under “Company,” include the company name, “Guangzhou Mingcan Die-Casting Hardware Products Co., Ltd.,” and under “2013 Ad valorem rate (percent),” include the rate 1.81 percent. In addition, in the second column, under “Preliminary Rate for Non-Selected Companies Under Review,” correct the first sentence in the first paragraph to: “There are 38 companies for which a review was requested and not rescinded, but were not selected as mandatory respondents.”

In the Federal Register of December 14, 2015, in FR Doc 2015-31425, on page 77327 in the first, second, and third columns, correct the cash deposit rate table as follows: under “Company,” include the company name, “Guangzhou Mingcan Die-Casting Hardware Products Co., Ltd.,” and under “2013 Ad valorem rate (percent),” include the rate 61.36 percent. In addition, in the third column, under “Rate for Non-Selected Companies Under Review,” correct the first sentence in the first paragraph to: “There are 39 companies for which a review was requested and not rescinded, but were not selected as mandatory respondents.”

In the Federal Register of March 22, 2016, in FR Doc 2016-06425, on page 15239 in the third column, correct the cash deposit rate table as follows: under “Company,” include the company name, “Guangzhou Mingcan Die-Casting Hardware Products Co., Ltd.,” and under “2013 Ad valorem rate (percent),” include the rate 28.01 percent. Lastly, in the second column, under “Amendment to Rates for Non-Selected Companies Under Review,” correct the first sentence in the first paragraph to: “In light of the above corrections, for the 39 companies for which a review was requested and not rescinded, but were not selected as mandatory respondents, we have recalculated the net subsidy rate which is based on the overall subsidy rates calculated for the mandatory respondents of this review.”

Notification to Interested Parties

This notice is issued and published in accordance with sections 751(a)(1) and 777(i)(1) of the Tariff Act of 1930, as amended, and 19 CFR 351.221(b)(5).

Dated: November 14, 2024.
Abdelali Elouaradia,
Deputy Assistant Secretary for Enforcement and Compliance.

[FR Doc. 2024-27060 Filed 11-19-24; 8:45 am]

BILLING CODE 3510-DS-P